DEPARTMENT OF JUSTICE

Antitrust Division

Notice Pursuant to the National Cooperative Research and Production Act of 1993—ODVA, Inc.

Notice is hereby given that, on February 22, 2013, pursuant to Section 6(a) of the National Cooperative Research and Production Act of 1993, 15 U.S.C. 4301 et seq. (“the Act”), ODVA, Inc. (“ODVA”) has filed written notifications simultaneously with the Attorney General and the Federal Trade Commission disclosing changes in its membership. The notifications were filed for the purpose of extending the Act's provisions limiting the recovery of antitrust plaintiffs to actual damages under specified circumstances. Specifically, OBS Korea, Gunpo, Kyeonggi-Do, REPUBLIC OF KOREA; Smarteye Corporation, Rochester Hills, MI; OTO Ltd., Gyungju-Si, Gyeongbuk, REPUBLIC OF KOREA, have been added as parties to this venture.

Also, Precision Engine Controls Corporation, San Diego, CA; FlexLink, Göteborg, SWEDEN; Control Technology Incorporated, Knoxville, TN; SEARI Group Co., Ltd., Shanghai, PEOPLE'S REPUBLIC OF CHINA; Hitachi Cable Manchester, White Plains, NY; STS Co., Ltd., Gyeonggi-Do, REPUBLIC OF KOREA; ABOUNDI, Inc., Nashua, NH; MagneMotion Inc., Devens, MA; Control Concepts Inc., Chanhassen, MN; JSK Co., Ltd., Oska, JAPAN; and SensoPart Industriesensorik GmbH, Gottenheim, GERMANY, have withdrawn as parties to this venture.

In addition, BTR Netcom, has changed its name to METZ CONNECT USA Inc., Tinton Falls, NY.

No other changes have been made in either the membership or planned activity of the group research project. Membership in this group research project remains open, and ODVA intends to file additional written notifications disclosing all changes in membership.

On June 21, 1995, ODVA filed its original notification pursuant to Section 6(a) of the Act. The Department of Justice published a notice in the Federal Register pursuant to Section 6(b) of the Act on February 15, 1996 (61 FR 6039).

The last notification was filed with the Department on November 23, 2012. A notice was published in the Federal Register pursuant to Section 6(b) of the Act on December 19, 2012 (77 FR 75191).

Patricia A. Brink,
Director of Civil Enforcement, Antitrust Division.

[FR Doc. 2013-06275 Filed 3-18-13; 8:45 am]

BILLING CODE P